DEPARTMENT OF ENERGY

Federal Energy Regulatory Commission

Combined Notice of Filings #1

Take notice that the Commission received the following electric corporate filings:

Docket Numbers: EC23-111-000

Applicants: Idaho Power Company, PacifiCorp

Description: Joint Application for Authorization Under Section 203 of the Federal Power Act of Idaho Power Company, et al.

Filed Date: 7/20/23.

Accession Number: 20230720-5124.

Comment Date: 5 p.m. ET 8/10/23.

Take notice that the Commission received the following electric rate filings:

Docket Numbers: ER22-1500-003.

Applicants: Sunflower Electric Power Corporation, Southwest Power Pool, Inc.

Description: Compliance filing: Southwest Power Pool, Inc. submits tariff filing per 35: Settlement Compliance Filing of Sunflower in Response to June 21 Order to be effective 6/1/2022.

Filed Date: 7/20/23.

Accession Number: 20230720-5098.

Comment Date: 5 p.m. ET 8/10/23.

Docket Numbers: ER23-2001-000.

Applicants: Sagebrush ESS II, LLC.

Description: Supplement to May 30, 2023 Sagebrush ESS II, LLC tariff filing.

Filed Date: 7/17/23.

Accession Number: 20230717-5187.

Comment Date: 5 p.m. ET 7/27/23.

Docket Numbers: ER23-2066-000.

Applicants: Antelope Valley BESS, LLC.

Description: Supplement to June 2, 2023 Antelope Valley BESS, LLC tariff filing.

Filed Date: 7/20/23.

Accession Number: 20230720-5103.

Comment Date: 5 p.m. ET 7/31/23.

Docket Numbers: ER23-2438-000.

Applicants: PacifiCorp.

Description: § 205(d) Rate Filing: Second Amended and Restated Midpoint-Meridian Agreement (RS No. 369) to be effective 12/31/9998.

Filed Date: 7/19/23.

Accession Number: 20230719-5157.

Comment Date: 5 p.m. ET 8/9/23.

Docket Numbers: ER23-2439-000.

Applicants: Cavalier Solar A2, LLC.

Description: Baseline eTariff Filing: Cavalier Solar A2, LLC MBR Tariff to be effective 8/1/2023.

Filed Date: 7/20/23.

Accession Number: 20230720-5001.

Comment Date: 5 p.m. ET 8/10/23.

Docket Numbers: ER23-2440-000.

Applicants: McFarland Solar B, LLC.

Description: Baseline eTariff Filing: McFarland Solar B, LLC MBR Tariff to be effective 8/1/2023.

Filed Date: 7/20/23.

Accession Number: 20230720-5002.

Comment Date: 5 p.m. ET 8/10/23.

Docket Numbers: ER23-2441-000.

Applicants: Chevelon Butte RE II LLC.

Description: Baseline eTariff Filing: Chevelon Butte RE II LLC MBR Tariff to be effective 9/1/2023.

Filed Date: 7/20/23.

Accession Number: 20230720-5003.

Comment Date: 5 p.m. ET 8/10/23.

Docket Numbers: ER23-2442-000.

Applicants: PJM Interconnection, L.L.C.

Description: § 205(d) Rate Filing: Original WMPA, Service Agreement No. 7022; Queue No. AG1-478 to be effective 9/15/2023.

Filed Date: 7/20/23.

Accession Number: 20230720-5009.

Comment Date: 5 p.m. ET 8/10/23.

Docket Numbers: ER23-2443-000.

Applicants: Midcontinent Independent System Operator, Inc.

Description: § 205(d) Rate Filing: 2023-07-20_SA 4126 METC-Wolverine-MPPA-Eagle Creek Solar Park GIA (J1389) to be effective 9/19/2023.

Filed Date: 7/20/23.

Accession Number: 20230720-5012.

Comment Date: 5 p.m. ET 8/10/23.

Docket Numbers: ER23-2444-000.

Applicants: PJM Interconnection, L.L.C.

Description: Tariff Amendment: Notice of Cancellation of WMPA, Service Agreement No. 6356; Queue No. AG2-205 to be effective 9/15/2023.

Filed Date: 7/20/23.

Accession Number: 20230720-5019.

Comment Date: 5 p.m. ET 8/10/23.

Docket Numbers: ER23-2445-000.

Applicants: Midcontinent Independent System Operator, Inc., Ameren Illinois Company.

Description: § 205(d) Rate Filing: Midcontinent Independent System Operator, Inc. submits tariff filing per 35.13(a)(2)(iii: 2023-07-20_Ameren Illinois Depreciation Rates to be effective 12/31/9998.

Filed Date: 7/20/23.

Accession Number: 20230720-5020.

Comment Date: 5 p.m. ET 8/10/23.

Docket Numbers: ER23-2446-000.

Applicants: GridLiance West LLC.

Description: GridLiance West LLC Request for Abandoned Plant Incentive and Expedited Action for GridLiance West LLC.

Filed Date: 7/19/23.

Accession Number: 20230719-5203.

Comment Date: 5 p.m. ET 8/9/23.

Docket Numbers: ER23-2447-000.

Applicants: Desert Peak Energy Center, LLC.

Description: Baseline eTariff Filing: Desert Peak Energy Center, LLC Filing of Shared Facilities Agreement to be effective 7/21/2023.

Filed Date: 7/20/23.

Accession Number: 20230720-5061.

Comment Date: 5 p.m. ET 8/10/23.

Docket Numbers: ER23-2448-000.

Applicants: Tunica Windpower LLC.

Description: Baseline eTariff Filing: Tunica Windpower LLC MBR Tariff to be effective 9/18/2023.

Filed Date: 7/20/23.

Accession Number: 20230720-5064.

Comment Date: 5 p.m. ET 8/10/23.

Docket Numbers: ER23-2449-000.

Applicants: Lyons Solar, LLC.

Description: Baseline eTariff Filing: Reactive Power Tariff Application to be effective 10/1/2023.

Filed Date: 7/20/23.

Accession Number: 20230720-5068.

Comment Date: 5 p.m. ET 8/10/23.

Docket Numbers: ER23-2450-000.

Applicants: Great Cove Solar LLC.

Description: Baseline eTariff Filing: Great Cove Solar LLC MBR Tariff to be effective 9/18/2023.

Filed Date: 7/20/23.

Accession Number: 20230720-5071.

Comment Date: 5 p.m. ET 8/10/23.

Docket Numbers: ER23-2451-000.

Applicants: Great Cove Solar II LLC.

Description: Baseline eTariff Filing: Great Cove Solar II LLC MBR Tariff to be effective 9/18/2023.

Filed Date: 7/20/23.

Accession Number: 20230720-5079.

Comment Date: 5 p.m. ET 8/10/23.

Docket Numbers: ER23-2452-000.

Applicants: PJM Interconnection, L.L.C.

Description: § 205(d) Rate Filing: ISA, Original SA No. 6984; Queue No. AF1-226 to be effective 6/20/2023.

Filed Date: 7/20/23.

Accession Number: 20230720-5093.

Comment Date: 5 p.m. ET 8/10/23.

Docket Numbers: ER23-2453-000.

Applicants: New York Independent System Operator, Inc., Niagara Mohawk Power Corporation.

Description: § 205(d) Rate Filing: New York Independent System Operator, Inc. submits tariff filing per 35.13(a)(2)(iii: NYISO-National Grid Joint 205: SGIA Flat Hill Solar Project SA 2777 to be effective 7/6/2023.

Filed Date: 7/20/23.

Accession Number: 20230720-5094.

Comment Date: 5 p.m. ET 8/10/23.

Docket Numbers: ER23-2454-000.

Applicants: New York Independent System Operator, Inc., Niagara Mohawk Power Corporation.

Description: § 205(d) Rate Filing: New York Independent System Operator, Inc. submits tariff filing per 35.13(a)(2)(iii: NYISO-National Grid Joint 205: SGIA Grassy Knoll Solar Project SA2778 to be effective 7/6/2023.

Filed Date: 7/20/23.

Accession Number: 20230720-5102.

Comment Date: 5 p.m. ET 8/10/23.

Docket Numbers: ER23-2455-000.

Applicants: Hecate Grid Swiftsure, LLC.

Description: Hecate Grid Swiftsure, LLC requests a limited waiver of the requirements in Sections 25.6.2.3.2 and 25.6.2.3.3 of Attachment S of the New York Independent System Operator, Inc.'s Open Access Transmission Tariff.

Filed Date: 7/19/23.

Accession Number: 20230719-5224.

Comment Date: 5 p.m. ET 7/31/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 20, 2023.
Debbie-Anne A. Reese,
Deputy Secretary.

[FR Doc. 2023-15842 Filed 7-25-23; 8:45 am]

BILLING CODE 6717-01-P